DEPARTMENT OF COMMERCE

Bureau of the Census

[Docket Number 060505120-6120-01]

Census Information Center Program

AGENCY: Bureau of the Census.

ACTION: Notice; request for proposals.

SUMMARY: The Bureau of the Census (Census Bureau) seeks proposals from eligible organizations to create 15 Census Information Centers. This notice provides information related to eligibility and program requirements. The Census Information Center (CIC) Program is an integral part of the Census Bureau's data dissemination network. The CIC Program was established over 17 years ago to make census data more widely available to nongovernmental organizations representing hard-to-enumerate populations. There are currently 45 such organizations participating as Census Information Centers in the CIC Program. The Census Bureau will consider all complete proposals received before the appropriate deadline.

DATES: Written proposals must be received on or before August 15, 2006.

ADDRESSES: Written proposals should be sent to Mr. Stanley J. Rolark, Chief, Customer Liaison Office, U.S. Census Bureau, 4700 Silver Hill Road, Room 3634, Federal Office Building 3, Washington, DC 20233; Telephone: (301) 763-1544; Fax: (301) 457-4784; E-mail: Stanley.J.Rolark@census.gov.

FOR FURTHER INFORMATION CONTACT: Ms. Ceci A. Villa, Customer Liaison Office, U.S. Census Bureau, 4700 Silver Hill Road, Room 3620, Federal Office Building 3, Washington, DC 20233; Telephone: (301) 763-6415; Fax: (301) 457-4784; E-mail: Ceci.A.Villa@census.gov.

SUPPLEMENTARY INFORMATION: This section provides information on eligibility, program requirements, proposal format and content, submission instructions, selection, and notification process.

Established in 1988, the Census Information Center (CIC) Program is a cooperative venture among the U.S. Census Bureau and national level, community-based organizations and colleges and universities created to serve as auxiliary data distribution centers that reach underserved populations. Accordingly, each Census Information Center has its own target audience often requiring unique information. The CIC Program includes organizations, such as chambers of commerce; minority-serving colleges and universities; civil rights, social justice, and social service groups; think tanks; and research organizations.

The mission of the CIC Program is to provide efficient access to Census Bureau data products through a wide data dissemination network of organizations. Those organizations effectively process and disseminate Census Bureau data to underserved population groups in easily understandable formats. To accomplish this mission, Census Information Centers work in partnership with the Census Bureau through the Customer Liaison Office.

The Census Information Centers are recognized as official sources of demographic, economic, and social statistics produced by the Census Bureau. Census Information Centers provide training and technical assistance to local governments, businesses, community groups, and other interested data users so that they may access and use Census Bureau data for research, program administration, planning, and decision-making purposes.

Census Information Centers have successfully used census data and local information to support activities promoting change in underserved communities. They have used census data and local statistics to help local communities and minority businesses qualify for reconstruction resources in the wake of the September 11 attack on New York City; establish empowerment zones and revitalization areas in Brooklyn, NY, and Shreveport, LA; obtain youth services and construct after school facilities in local communities in Nashville, TN, and Oakland, CA; provide baseline data to measure the effectiveness of national programs on crime in Washington, DC, public housing; develop ways to link children in need with public services in Minnesota; help local organizations draft grant proposals; and provide American Indians on the Navajo Reservation and across the country access to Temporary Assistance to Needy Families (TANF).

In addition to the Census Information Centers, the Census Bureau's overall data dissemination network includes participants in the State Data Center/Business and Industry Data Center Program, Census Depository Libraries, and the 12 Census Regional Office Partnership and Data Services staff. The combined network includes nearly 2,000 entities located throughout the 48 contiguous states, Alaska, Hawaii, Puerto Rico, the Northern Marianna Islands, American Samoa, Guam, and the U.S. Virgin Islands. A Memorandum of Agreement is signed with the participants to serve as official repositories for census data.

We are interested in maintaining a CIC Program that represents the Nation's diversity and includes organizations with an interest and ability to provide underserved communities access to Census Bureau data.

A. Eligibility

National, regional, and community-based nonprofit organizations representing underserved communities are eligible to participate in the CIC Program. Organizations must have research as part of their mission or as a component of their organization. Organizations must have the ability to effectively disseminate data and information to their members, community data-users, or persons served in the community. Some of the types of organizations we are seeking to include are, but are not limited to, minority think tanks, research organizations, minority serving colleges and universities, Tribal colleges, minority chambers of commerce, economic development corporations, social service organizations, rural community and minority business organizations, as well as organizations that support community and economic development activities, and organizations that serve children and families.

B. Program Requirements

The Census Bureau does not provide funding to CIC Program participants. The Census Bureau does provide access to the full array of its data products, training and technical support free of charge to the Census Information Centers. In return, the Census Information Centers discuss what census data mean for local communities. The Census Information Centers produce reports, fact sheets, briefs, and other materials in different formats, on more specific subjects, and for more unique geographic areas (communities) than those produced by the Census Bureau.

Both parties must sign a Memorandum of Agreement and adhere to the following program responsibilities:

Census Bureau Responsibilities

• Provide program administration and staff support to the Census Information Centers.

• Provide free access to a wide variety of census products, information, and services, including but not limited to, printed reports, CD-ROM/DVD products, electronic files, Internet-based products (through the American Fact Finder, among other sources), subscriptions, documentation, guides, catalogs, statistical compendia, indexes, maps, mapping databases, and other reference materials. This does not include access to confidential data or preparation of custom tabulations.

• Provide training and technical support on Census Bureau data products and services. This assistance includes, but is not limited to, training at Census Bureau headquarters, training sponsored by Census Bureau regional offices, and training via available technologies such as the Internet, teleconferences, videoconferencing, and other training methods.

• Provide advance notification of data release(s) through e-mail.

• Sponsor and pay the travel expenses of Census Information Center representatives to attend an annual training conference and other meetings as appropriate and as budget permits.

• Maintain a Web site for the CIC Program.

Census Information Center Responsibilities

• Disseminate Census Bureau data and information to persons served and local communities.

• Provide training, education, and technical assistance to persons served and local communities on how to access Census Bureau data.

• Assist data users in understanding and accessing Census Bureau data and information, and answering questions from the public and persons served about what the data means for local communities and neighborhoods.

• Provide dedicated office space, staff, and equipment to operate your Census Information Center.

• Provide access to census data and information by establishing a library or reference center with reasonable “walk-in” access by the public (optional).

• Support Census Bureau programs by assisting with outreach, promotion and recruitment efforts for the Census Bureau's censuses and surveys.

• Submit an annual report of activities.

• Establish and/or maintain a Web site or Web page that highlights the work of your Census Information Center and links to the Census Bureau Web site.

• Attend an annual training conference. Travel expenses to be covered by the Census Bureau, as budget permits.

• Communicate regularly with the Census Bureau liaison. Provide him/her with updates on your Census Information Center activities. Make him/her aware of any data or data product issues, needs, or concerns expressed by local data users.

C. Suggested Proposal Format and Content

The suggested format below encourages applicants to describe their organization, data dissemination plans, community outreach activities and record of service to underserved populations, research and data use capabilities and expertise, and past experience working with Census Bureau data or the Census Bureau. However, applicants are not required to use the suggested format. All submissions will be given full consideration, regardless of format.

Format

The following is the suggested format. Please make sure your proposal adheres to the following guidelines, if possible:

• A cover letter with an original signature.

• Proposals should not exceed 10 pages. This does not include the cover letter.

• Proposals must be in English.

• Submit proposals on 8½ by 11-inch paper with printing on one side only (single sided). Your typewritten letter and proposal should use Times New Roman or similar type and a 12-point font.

Content/Questions

1. Briefly describe your organization and how it meets the eligibility requirements in Section A, “Eligibility.” Include background information about your organization's history, mission, programs, services, persons served, etc.

2. Briefly describe your organizations research and data use capabilities. Include information about your organization's expertise in conducting research, any research or data products your organization regularly produces, and any specific areas of application for your organization's research, especially as it relates to underserved communities.

3. Briefly describe how your organization will disseminate Census Bureau data and information to your constituents and local underserved communities. Include how your organization will provide data access to those without Internet access. Also discuss how your organization will assist data users find, interpret, and understand the data they need, as well as, the various uses and implications on the data within their community.

4. Describe the resources your organization will commit to your Census Information Center, if your organization were selected to participate. Include information on the staff, equipment, space, etc., your organization will make available to your Census Information Center.

5. Describe what would be the focus of your Census Information Center, if your organization were selected to participate. Include information on the geographic area(s) you will cover, racial/ethnic populations you will serve, and the types of services you will offer.

6. Briefly describe how your organization has worked with the Census Bureau or Census Bureau data or data products in the past.

D. Submission Instructions

Proposals must be received by the date identified in the DATES section of this notice. Submit proposals to the official identified in the ADDRESSES section of this notice.

E. Selection Process

• Following an initial screening, Census Bureau staff will select seven independent reviewers who will individually review and score the remaining proposals based on the strength of the responses to the questions in Section C, under content/questions. The independent reviewers will make their individual recommendations to the Census Bureau. All submissions will be given full consideration, regardless of the format.

• Proposals will be evaluated as follows:

○ Quality and innovativeness of the organization's plans to disseminate census data to persons served and to the local underserved communities. 45%

○ Expertise of the applicant organization in conducting research, producing research products, and research that focuses on underserved communities. 20%

○ Resources and level of organization available to effectively carry out the program requirements, including staff, equipment and space. 20%

○ Relevancy of the types of services offered and the communities served by the applicant organization. 5%

○ Ability to disseminate data to their membership and local community. 5%

○ Level of knowledge of and previous interaction with the Census Bureau or Census Bureau data products. 5%

• Senior Census Bureau staff will make final decisions on the organizations selected for the CIC Program. Preference shall be given to nonprofit organizations with research as part of their missions or as a component of their organization. The highest consideration will be given to an organization's data dissemination plans, as reflected in the 45% percentage weight given to this criterion.

F. Notification Process

Organizations selected to participate in the CIC Program will be notified in writing by September 15, 2006. The Census Bureau Program Office administering the CIC Program will advise organizations whose proposals are declined as promptly as possible.

If your organization is selected, you must send a representative to a training conference on October 10-13, 2006.

G. Paperwork Reduction Act

Notwithstanding any other provision of law, no person is required to respond to, nor shall a person be subject to a penalty for failure to comply with, a collection of information subject to the requirements of the Paperwork Reduction Act (PRA) unless that collection of information displays a current valid Office of Management and Budget (OMB) control number. In accordance with the PRA, Title 44, United States Code, Chapter 35, OMB approved this information collection under OMB control number 0607-0760.

Dated: June 9, 2006.
Charles Louis Kincannon,
Director, Bureau of the Census.

[FR Doc. E6-9262 Filed 6-14-06; 8:45 am]

BILLING CODE 3510-07-P